SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: December 1-31, 2021.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists GF Registration for projects, described below, pursuant to 18 CFR 806, subpart E for the time period specified above:

Grandfathering Registration Under 18 CFR Part 806, Subpart E

1. Elkview Country Club, GF Certificate No. GF-202112196, Greenfield and Fell Townships, Lackawanna County, Pa.; Crystal Lake; Issue Date: December 17, 2021.

2. Big Heart Pet Brands, Inc., GF Certificate No. GF-202112197, South Centre Township, Columbia County, Pa.; Well 3; Issue Date: December 29, 2021.

3. Huntingdon Borough—Public Water Supply System, GF Certificate No. GF-202112198, Huntingdon Borough, Huntingdon County, Pa.; Standing Stone Creek; Issue Date: December 29, 2021.

4. Kunzler & Company, Inc.—Tyrone Facility, GF Certificate No. GF-202112199, Snyder Township, Blair County, Pa.; consumptive use; Issue Date: December 29, 2021.

5. Pennsylvania Fish & Boat Commission—Cooperative Hatcheries and Nurseries, GF Certificate No. GF-202112200, various municipalities and counties, Pa.; see Addendum; Issue Date: December 29, 2021.

6. Pioneer Hi-Bred International, Inc., GF Certificate No. GF-202112201, East Earl Township, Lancaster County, Pa.; Pequea Creek; Issue Date: December 29, 2021.

Authority: Public Law 91-575, 84 Stat. 1509 et seq., 18 CFR parts 806, 807, and 808.

Dated: January 6, 2022.
Jason E. Oyler
General Counsel and Secretary to the Commission.

[FR Doc. 2022-00318 Filed 1-10-22; 8:45 am]

BILLING CODE 7040-01-P